DEPARTMENT OF COMMERCE

Foreign-Trade Zones Board

[B-34-2015]

Authorization of Production Activity; Foreign-Trade Subzone 29F; Hitachi Automotive Systems Americas, Inc. (Automotive Battery Management Systems); Harrodsburg, Kentucky

On May 5, 2015, the Louisville and Jefferson County Riverport Authority, grantee of FTZ 29, submitted a notification of proposed production activity to the Foreign-Trade Zones (FTZ) Board on behalf of Hitachi Automotive Systems Americas, Inc., operator of Subzone 29F in Harrodsburg, Kentucky.

The notification was processed in accordance with the regulations of the FTZ Board (15 CFR part 400), including notice in the Federal Register inviting public comment (80 FR 30434-30435, May 28, 2015). The FTZ Board has determined that no further review of the activity is warranted at this time. The production activity described in the notification is authorized, subject to the FTZ Act and the FTZ Board's regulations, including Section 400.14.

Dated: September 3, 2015.
Andrew McGilvray,
Executive Secretary.

[FR Doc. 2015-23079 Filed 9-11-15; 8:45 am]

BILLING CODE 3510-DS-P